DEPARTMENT OF THE INTERIOR

Bureau of Indian Affairs

[189D0102DR/DS5A300000/DR.5A311.IA000118]

Notice of Availability of a Draft Environmental Impact Statement for the Tule River Tribe's Proposed Fee-to-Trust and Eagle Mountain Casino Relocation Project, Tulare County, California

AGENCY: Bureau of Indian Affairs, Interior.

ACTION: Notice of availability.

SUMMARY: This notice advises the public that the Bureau of Indian Affairs (BIA), as lead agency, with the Tule River Indian Tribe (Tribe), City of Porterville (City), Tulare County (County), and the U.S. Environmental Protection Agency (EPA) serving as cooperating agencies, intends to file a Draft Environmental Impact Statement (DEIS) with the EPA in connection with the Tribe's application for acquisition in trust by the United States of approximately 40 acres for gaming and other purposes to be located in the City of Porterville, Tulare County, California. This notice also announces that the DEIS is now available for public review and that a public hearing will be held to receive comments on the DEIS.

DATES: Comments on the DEIS must arrive no later than November 5, 2018. The date and time of the public hearing will be announced at least 15 days in advance through a notice to be published in a local newspaper (the Porterville Recorder) and online at http://www.tulerivereis.com.

ADDRESSES: You may send written comments by any of the following methods:

• Mail or hand-delivery: Amy Dutschke, Regional Director, Bureau of Indian Affairs, Pacific Region, 2800 Cottage Way, Sacramento, California 95825. Please include your name, return address, and “DEIS Comments, Tule River Tribe Casino Relocation Project” on the first page of your written comments.

• Email: chad.broussard@bia.gov. Please use “DEIS Comments, Tule River Tribe Casino Relocation Project” as the subject of your email.

The location of the public hearing will be announced at least 15 days in advance through a notice to be published in a local newspaper (the Porterville Recorder) and online at http://www.tulerivereis.com.

The DEIS is available for review at the following locations:

• Bureau of Indian Affairs, Pacific Region, 2800 Cottage Way, Sacramento, California 95825 (during regular business hours).

• Porterville Public Library at 41 West Thurman Avenue in Porterville, California (during regular business hours).

• http://www.tulerivereis.com.

FOR FURTHER INFORMATION CONTACT: Chad Broussard, Environmental Protection Specialist, Bureau of Indian Affairs, Pacific Regional Office; telephone: (916) 978-6165; email: chad.broussard@bia.gov. Information is also available online at http://www.tulerivereis.com.

SUPPLEMENTARY INFORMATION: Public review of the DEIS is part of the administrative process for the evaluation of the Tribe's application to the BIA for the placement of approximately 40 acres of fee land in trust in Tulare County, California. The Tribe proposes to construct a casino resort on the trust property. A Notice of Intent (NOI) to prepare an EIS was published in the Porterville Recorder and Federal Register on December 30, 2016 (81 FR 96477). The BIA held a public scoping meeting for the project on January 23, 2017, at the Veterans Memorial Building, in Porterville, California.

Background: The Tribe's proposed project consists of the following components: (1) The Department's transfer of the approximately 40-acre fee property into trust status; (2) issuance of a determination by the Secretary of the Interior pursuant to the Indian Gaming Regulatory Act 25 U.S.C. 2701 et seq.; and (3) the Tribe's proposed development of the trust parcel and the off-site improvement areas. The proposed casino-hotel resort would include a hotel, convention center, multipurpose event space, several restaurant facilities, parking facilities and water reclamation infrastructure. The new facility would replace the Tribe's existing casino, and the existing casino buildings would be converted to tribal government or service uses. The following alternatives are considered in the DEIS: (1) Proposed Project; (2) Proposed Project with On-Site Water and Wastewater Systems; (3) Reduced Intensity Hotel and Casino; (4) Non-Gaming Hotel and Conference Center; (5) Expansion of Existing Eagle Mountain Casino; and (6) No Action Alternative. Environmental issues addressed in the DEIS include geology and soils, water resources, air quality, biological resources, cultural and paleontological resources, socioeconomic conditions (including environmental justice), transportation and circulation, land use, public services, noise, hazardous materials, aesthetics, cumulative effects, and indirect and growth inducing effects.

Locations where the DEIS is Available for Review: The DEIS is available for review at the addresses noted above in the ADDRESSES section of this notice. To obtain a compact disc copy of the DEIS, please provide your name and address in writing or by phone to Chad Broussard, Bureau of Indian Affairs, Pacific Region Office. Contact information is listed in the ADDRESSES section of this notice. Individual paper copies of the DEIS will be provided upon payment of applicable printing expenses by the requestor for the number of copies requested.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published pursuant to Sec. 1503.1 of the Council of Environmental Quality Regulations (40 CFR parts 1500 through 1508) and Sec. 46.305 of the Department of the Interior Regulations (43 CFR part 46), implementing the procedural requirements of the NEPA of l969, as amended (42 U.S.C. 4371, et seq.), and is in the exercise of authority delegated to the Assistant Secretary—Indian Affairs by 209 DM 8.

Dated: September 13, 2018.
Tara Sweeney,
Assistant Secretary—Indian Affairs.

[FR Doc. 2018-20577 Filed 9-20-18; 8:45 am]

BILLING CODE 4337-15-P